DEPARTMENT OF ENERGY

Federal Energy Regulatory Commission

[Docket No. PR00-9-004]

Gulfterra Texas Pipeline, LP; Notice of Technical Conference

January 21, 2005.

Take notice that a technical conference will be held on Thursday, January 27, 2005, at 10 a.m. (EST), in a room to be designated at the Federal Energy Regulatory Commission, 888 First Street NE., Washington, DC 20426.

The conference will address questions related to the July 12, 2004, filing by Gulfterra Texas Pipeline, LP, to comply with the June 11, 2002, Order on Staff Panel and the February 25, 2004, Order on Rehearing and Denying Late Intervention.

FERC conferences are accessible under section 508 of the Rehabilitation Act of 1973. For accessibility accommodations please send an e-mail to accessibility@ferc.gov or call toll free (866) 208-3372 (voice) or 202-208-1659 (TTY), or send a FAX to 202-208-2106 with the required accommodations.

All interested parties and staff are permitted to attend.

Magalie R. Salas,
Secretary.

[FR Doc. E5-330 Filed 1-28-05; 8:45 am]

BILLING CODE 6717-01-P